COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 9/6/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 4/9/2010 (75 FR 18164-18165) and 6/11/2010 (75 FR 33270-33271), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Microfiber and Metallic Scrubber Sponges (3-Pack)

NSN: MR 999—Scrubber, Terry

NPA: New York City Industries for the Blind, Inc., Brooklyn, NY

Contracting Activity: MILITARY RESALE-DEFENSE COMMISSARY AGENCY, FORT LEE, VA

COVERAGE: C-List for the requirement of military commissaries and exchanges as aggregated by the Defense Commissary Agency.

Candles, Soy

NSN: MR 470—Cucumber Melon

NSN: MR 471—Cucumber Pomegranate

NSN: MR 472—Macintosh Apple

NSN: MR 473—Fresh Linen

NPA: Industries for the Blind, Inc., West Allis, WI

Contracting Activity: MILITARY RESALE-DEFENSE COMMISSARY AGENCY, FORT LEE, VA

COVERAGE: C-List for the requirement of military commissaries and exchanges as aggregated by the Defense Commissary Agency.

Tape, Pressure Sensitive Adhesive

NSN: 7510-00-266-6694—Flat Back

NSN: 7510-00-266-6709—Crepe Backing

NPA: Cincinnati Association for the Blind, Cincinnati, OH

Contracting Activity: GSA/FEDERAL ACQUISITION SERVICE, NEW YORK, NY

COVERAGE: A-List for the Total Government Requirement as aggregated by the General Services Administration.

Cloth, Dish, Microfiber with Scrubber Mesh, 3-Pack

NSN: MR 963-Blue

NSN: MR 964-Green

NSN: MR 965-Red

NPA: New York City Industries for the Blind, Inc., Brooklyn, NY

Contracting Activity: MILITARY RESALE-DEFENSE COMMISSARY AGENCY, FORT LEE, VA

COVERAGE: C-List for the requirement of military commissaries and exchanges as aggregated by the Defense Commissary Agency.

Slicer Aid

NSN: MR 825

NPA: Industries for the Blind, Inc., West Allis, WI

Contracting Activity: MILITARY RESALE—DEFENSE COMMISSARY AGENCY, FORT LEE, VA

COVERAGE: C-List for the requirement of military commissaries and exchanges as aggregated by the Defense Commissary Agency.

Box, Wood, Ammunition Packing

NSN: 8140-00-NSH-0007

NPA: Knox County Association for Retarded Citizens, Inc., Vincennes, IN

Contracting Activity: DEPARTMENT OF THE NAVY, NAVAL SURFACE WARFARE CENTER, INDIAN HEAD DIVISION, INDIAN HEAD, MD

COVERAGE: C-List for 100% of the requirements of the Naval Surface Warfare Center, Indian Head Division as aggregated by the Naval Surface Warfare Center, Indian Head Division, Indian Head, MD

Caddy, Bucket and Cleaning Kit

NSN: MR 1016

NPA: Industries for the Blind, Inc., West Allis, WI

Contracting Activity: MILITARY RESALE-DEFENSE COMMISSARY AGENCY, FORT LEE, VA

COVERAGE: C-List for the requirement of military commissaries and exchanges as aggregated by the Defense Commissary Agency.

Kitchen Utensils, Serving

NSN: MR 807—Spoon, Slotted, SS Trim

NSN: MR 808—Spoon, Basting, SS Trim

NSN: MR 809—Turner, Slotted, SS Trim

NSN: MR 810—Skimmer, Kitchen, SS Trim

NSN: MR 811—Fork, Serving, SS Trim

NSN: MR 814—Spatula, Wide, SS Trim

NPA: Industries for the Blind, Inc., West Allis, WI

Contracting Activity: MILITARY RESALE-DEFENSE COMMISSARY AGENCY, FORT LEE, VA

COVERAGE: C-List for the requirement of military commissaries and exchanges as aggregated by the Defense Commissary Agency.

Services

Service Type/Location: Custodial Service National Weather Service, 5777 S. Aviation Blvd., N. Charleston, SC

NPA: Goodwill Industries of Lower South Carolina, Inc., North Charleston, SC Contracting Activity: DEPT OF COMMERCE, NATIONAL OCEANIC AND ATMOSPHERIC ADMINISTRATION, NORFOLK, VA

Service Type/Locations: Administrative Support Service Atlanta VA Medical Center, 1670 Clairmont Road, Decatur, GA; VAMC Health Administrative Service (HAS) Office, 755 Commerce Drive, Decatur, GA

NPA: Bobby Dodd Institute, Inc., Atlanta, GA Contracting Activity: DEPARTMENT OF VETERANS AFFAIRS, VISN 7 CONSOLIDATED CONTRACTING, AUGUSTA, GA

Service Type/Location: Custodial Service Costa Mesa USARC, 2651 Newport Blvd., Costa Mesa, CA

NPA: Elwyn, Inc., Aston, PA Contracting Activity: DEPT OF THE ARMY, XR W6BB ACA PRESIDIO OF MONTEREY, PRESIDIO OF MONTEREY, CA

Service Type/Locations: Janitorial Service Bldgs 2204, 2212, 2218, 5223 & 8199 2204; 2212; 2218 3rd Street; 5223 Finletter Avenue; 8199 Fairchild Avenue; Elmendorf AFB, AK; Bldgs 736, 658 & 12737 Corner of Quartermaster & D Streets (#736); 5th Street (Kiska Hall) (#658); Vandenburg Avenue (#12737); Fort Richardson, AK

NPA: MQC Enterprises, Inc., Anchorage, AK Contracting Activity: DEPT OF THE ARMY, XR W2SN ENDIST ALASKA, ANCHORAGE, AK

Barry S. Lineback,
Director, Business Operations.

[FR Doc. 2010-19451 Filed 8-5-10; 8:45 am]

BILLING CODE 6353-01-P